DEPARTMENT OF VETERANS AFFAIRS

[OMB Control No. 2900-0036]

Agency Information Collection Activity Under OMB Review: Statement of Disappearance

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by September 25, 2025.

ADDRESSES: To submit comments and recommendations for the proposed information collection, please type the following link into your browser: www.reginfo.gov/public/do/PRAMain, select “Currently under Review—Open for Public Comments”, then search the list for the information collection by Title or “OMB Control No. 2900-0036.”

FOR FURTHER INFORMATION CONTACT: VA PRA information: Dorothy Glasgow, 202-461-1084, VAPRA@va.gov

SUPPLEMENTARY INFORMATION:

Title: Statement of Disappearance (VA Form 21P-1775).

OMB Control Number: 2900-0036 https://www.reginfo.gov/public/do/PRASearch.

Type of Review: Extension without change of a currently approved collection.

Abstract: The major use of the form is used to gather the necessary information to determine if a decision of presumptive death can be made for benefit payment purposes. 38 U.S.C. 108 requires a formal “presumption of death” when a veteran has been missing for seven years. It would be impossible to administer the Survivor Benefits program without this collection of information. This is an extension only, no substantive changes.

An agency may not conduct or sponsor, and a person is not required to respond to a collection of information unless it displays a currently valid OMB control number. The Federal Register Notice with a 60-day comment period soliciting comments on this collection of information was published at 90 FR 26681, June 23, 2025.

Affected Public: Individuals or Households.

Estimated Annual Burden: 28 hours.

Estimated Average Burden per Respondent: 2.75 hours.

Frequency of Response: One time.

Estimated Number of Respondents: 10.

Authority: 44 U.S.C. 3501 et seq.

Dorothy Glasgow,
Acting, VA PRA Clearance Officer, Office of Enterprise and Integration, Data Governance Analytics, Department of Veterans Affairs.

[FR Doc. 2025-16334 Filed 8-25-25; 8:45 am]

BILLING CODE 8320-01-P